DEPARTMENT OF HEALTH AND HUMAN SERVICES

Food and Drug Administration

[Docket No. 2003N-0338]

Food Labels, Packaging, Restaurants, and Weight Management; Public Workshop; Amendment of Notice

AGENCY: Food and Drug Administration, HHS.

ACTION: Notice of public workshop.

SUMMARY: The Food and Drug Administration (FDA) is announcing an amendment to the notice of meeting entitled “Food Labels, Packaging, Restaurants, and Weight Management; Public Workshop.” The notice published in the Federal Register of October 17, 2003 (68 FR 59795). The amendment is being made to reflect that FDA is requesting comments regarding the workshop. There are no other changes.

FOR FURTHER INFORMATION CONTACT: Amber Jessup, Center for Food Safety and Applied Nutrition (HFS-726), Food and Drug Administration, 5100 Paint Branch Pkwy., College Park, MD 20740, 301-436-1689, e-mail: amber.jessup@fda.gov.

SUPPLEMENTARY INFORMATION: In the Federal Register of October 17, 2003 (68 FR 59795), FDA announced that a public workshop entitled “Exploring the Connections Between Weight Management and Food Labels and Packaging” would be held on November 20, 2003. On page 59795, in the second column, in the heading of the document, “[Docket No. 2003N-0338]” is added.

On page 59795, in the third column, the DATES section is amended to read as follows:

DATES: The public workshop will be held on November 20, 2003, from 8:30 a.m. to 6 p.m. Submit written or electronic comments by December 12, 2003.

On page 59795, in the third column, immediately following the DATES section, the ADDRESSES section is added to read as follows:

ADDRESSES: Submit written comments on the public workshop to the Division of Dockets Management (HFA-305), Food and Drug Administration, 5630 Fishers Lane, rm. 1061, Rockville, MD 20852, via e-mail to FDADockets@oc.fda.gov, or on the Division of Dockets Management Web site at http://www.fda.gov/dockets/ecomments.

On page 59796, in the first column, at the end of the document, the following paragraph is added:

Interested persons may submit to the Division of Dockets Management (see ADDRESSES) written or electronic comments regarding this document. Submit a single copy of electronic comments or two paper copies of any mailed comments, except that individuals may submit one paper copy. Comments are to be identified with the docket number found in brackets in the heading of this document. Received comments may be seen in the Division of Dockets Management between 9 a.m. and 4 p.m., Monday through Friday.

Dated: November 14, 2003.
Jeffrey Shuren,
Assistant Commissioner for Policy.

[FR Doc. 03-28953 Filed 11-17-03; 8:58 am]

BILLING CODE 4160-01-S